DEPARTMENT OF ENERGY

Energy Information Administration

Agency Information Collection Activities: Proposed Collection Update; Informational

AGENCY: Energy Information Administration (EIA), Department of Energy (DOE).

ACTION: Agency Information Collection Activities: Proposed Collection Update; Informational.

SUMMARY: The EIA issued a Proposed Collection Comment Request on “Report of Refinery Outages,” 73 FR 10745, Thursday, February 28, 2008, followed by an Informational Update, 73 FR 74713, Tuesday, December 9, 2008, indicating EIA's postponement of a decision to collect refinery outage data. EIA has determined that collection of this data is necessary to meet the intent of Section 804 of the Energy Independence and Security Act of 2007.

FOR FURTHER INFORMATION CONTACT: Joanne Shore by e-mail at joanne.shore@eia.doe.gov or by telephone at 202-586-4677.

SUPPLEMENTARY INFORMATION:

I. Background

II. Current Actions

I. Background

EIA recognizes the importance of understanding and anticipating supply changes that could affect prices paid by consumers for petroleum products. Refinery availability is an important element of this issue, and was highlighted in Section 804 of the Energy Independence and Security Act of 2007 (Pub. L. 110-140), requiring EIA to assess the impact of planned outages using commercially available data. Congressional interest in having EIA collect such data was partially a result of unusually high refinery outages in 2007.

In response, EIA put out a Federal Register notice in February 2008 (Proposed Collection Comment Request on “Report of Refinery Outages,” 73 FR 10745, Thursday, February 28, 2008), to solicit comments on collecting such data. This was followed by an informational Federal Register notice in December 2008 (Proposed Collection Update, 73 FR 74713, Tuesday, December 9, 2008) that provided the status of our review of this issue.

For about two years, EIA has been using commercially available refinery outage data and evaluating its ability to meet the intent of Section 804. As summarized in the December 2008 Federal Register notice, commercial data captures significant outages and is cost-effective, while government collection is likely more accurate and could address production impacts as well as unit outages, albeit at a higher cost both to industry and the government.

EIA's evaluation indicates that commercial data is useful and appropriate for many purposes, but it falls short in two areas regarding EIA's ability to meet the Section 804 requirements. First, commercial data sometimes misses a planned outage, picking it up shortly before or even after the outage begins. This is in part due to commercial data being accumulated from third party sources and voluntary company information rather than a required company survey such as EIA would conduct. As a result, commercial data can miss plans for an outage since some companies want and are able to keep their information private due to business sensitivities concerning certain outages. EIA needs to know about planned outages at least 3 or 4 months prior to their occurrence in order to assess any significant supply or price impacts and to provide information to the Secretary of Energy in a timely fashion. Missing a planned outage until shortly before it is scheduled to happen can lead to erroneous conclusions about its impacts in the larger context of the petroleum market.

Second, commercially available outage data does not include estimates of the production impacts of planned outages, only whether a unit will be offline. Production changes resulting from unit outages are needed to evaluate impacts on petroleum product prices. Currently EIA estimates production impacts using both the commercial unit outage information and historical EIA refinery data. As noted in the December 2008 Federal Register notice, any refinery estimates of planned unit outage impacts on production provided to EIA would not be precise.

The EIA December 2008 Federal Register notice also indicated that the Department of Energy's Office of Electricity Delivery and Energy Reliability (OE) was intending to collect unplanned outage information on a real-time basis in order to monitor ongoing issues as part of its role in monitoring potential supply disruptions and emergencies. This survey proposal has been withdrawn due to a change in OE's policy and operations. The proposal would not have served the purpose of collecting information on planned outages.

II. Current Actions

EIA has determined that it should pursue the collection of data monthly on planned and unplanned refinery outages and on estimates of associated production losses. Because of the complexity of this collection, EIA will work with industry to determine how best to collect the information needed and what the potential costs will be. Parties interested in participating in these discussions should contact Joanne Shore (joanne.shore@eia.doe.gov). EIA plans on issuing a Federal Register notice in 2010 with a proposed survey form, providing another opportunity for comments. EIA will then request approval from the Office of Management and Budget (OMB). The intent is to begin collection in 2011.

EIA will continue to use commercial data. Commercial data provide a historical context for analyzing outages and can assist in data validation. Eventually, the EIA data collection will generate a historical series, but adequate time series for analysis will not be available for some time. In addition, commercial data are updated daily and can provide alerts for rapidly evolving events in between EIA data collections.

A survey proposal would fall under the Federal Energy Administration Act of 1974 (Pub. L. 93-275, 15 U.S.C. 761 et seq.) and the DOE Organization Act (Pub. L. 95-91, 42 U.S.C. 7101 et seq.), which require the EIA to carry out a centralized, comprehensive, and unified energy information program. This program collects, evaluates, analyzes, and disseminates information on energy resource reserves, production, demand, prices, technology, and related economic and statistical information. This information is used to assess the adequacy of energy resources to meet near and longer term domestic demands, and to promote sound policymaking, efficient markets, and public understanding of energy and its interaction with the economy and the environment.

The EIA, as part of its effort to comply with the Paperwork Reduction Act of 1995 (Pub. L. 104-13, 44 U.S.C. Chapter 35), provides the general public and other Federal agencies with opportunities to comment on collections of energy information conducted by or in conjunction with the EIA. Any comments received following a survey proposal help the EIA to prepare data requests that maximize the utility of the information collected, and to assess the impact of collection requirements on the public.

After assembling public response to a Federal Register notice announcing specific survey information to be collected, including the proposed survey form, EIA will seek approval for this collection from the Office of Management and Budget (OMB) under Section 3507(a) of the Paperwork Reduction Act of 1995.

Issued in Washington, DC, December 24, 2009.
Howard Gruenspecht,
Deputy Administrator, Energy Information Administration.

[FR Doc. E9-31033 Filed 12-30-09; 8:45 am]

BILLING CODE 6450-01-P